NATIONAL CREDIT UNION ADMINISTRATION

Sunshine Act Meeting Notice

TIME AND DATE: 10 a.m., Thursday, December 14, 2006.

PLACE: Board Room, 7th Floor, Room 7047, 1775 Duke Street, Alexandria, VA 22314-3428.

STATUS: Open.

MATTERS TO BE CONSIDERED:

1. National Credit Union Share Insurance Fund (NCUSIF) Operating Level for 2007.

2. Final Rule: Part 708a of NCUA's Rules and Regulations, Conversion of Insured Credit Unions to Mutual Savings Banks.

3. Final Rule: Part 703 of NCUA's Rules and Regulations, Permissible Investments for Federal Credit Unions.

RECESS: 11:15 a.m.

TIME AND DATE: 11:30 a.m., Thursday, December 14, 2006.

PLACE: Board Room, 7th Floor, Room 7047, 1775 Duke Street, Alexandria, VA 22314-3428.

STATUS: Closed.

MATTERS TO BE CONSIDERED:

1. One (1) Insurance Claim. Closed pursuant to Exemption (8).

FOR FURTHER INFORMATION CONTACT: Mary Rupp, Secretary of the Board, Telephone: 703-518-6304.

Mary Rupp,
Secretary of the Board.

[FR Doc. 06-9647 Filed 12-7-06; 3:22 pm]

BILLING CODE 7535-01-M